DEPARTMENT OF TRANSPORTATION

Federal Aviation Administration

14 CFR Part 95

[Docket No. 30805; Amdt. No. 496]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, October 20, 2011.

FOR FURTHER INFORMATION CONTACT: Rick Dunham, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the nticipated impact is so minimal. For the same reason, the FAA certifies that this amendment will not have a significant economic impact on a substantial number of small entities under the criteria of the Regulatory Flexibility Act.

List of Subjects in 14 CFR Part 95

Airspace, Navigation (air).

Issued in Washington, DC, on September 16, 2011.
John M. Allen,
Director, Flight Standards Service.

Adoption of the Amendment

Accordingly, pursuant to the authority delegated to me by the Administrator, part 95 of the Federal Aviation Regulations (14 CFR part 95) is amended as follows effective at 0901 UTC, October 20, 2011.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 496 effective date October 20, 2011]
From | To | MEA | MAA
§ 95.4000 High Altitude RNAV Routes
§ 95.4037 RNAV Route Q37 Is Added to Read
FORT STOCKTON, TX VORTAC | CAVRN, TX FIX | *25000 | 45000
*18000—GNSS MEA |  |  |
*DME/DME/IRU MEA |  |  |
CAVRN, TX FIX | YORUB, NM FIX | *25000 | 45000
*18000—GNSS MEA |  |  |
*DME/DME/IRU MEA |  |  |
YORUB, NM FIX | IMMAS, NM FIX | *25000 | 45000
*18000—GNSS MEA |  |  |
*DME/DME/IRU MEA |  |  |
IMMAS, NM FIX | PUEBLO, CO VORTAC | *25000 | 45000
*18000—GNSS MEA |  |  |
*DME/DME/IRU MEA |  |  |
§ 95.4042 RNAV Route Q42 Is Amended to Read in Part
BRNAN, PA FIX | HOTEE, PA FIX | *18000 | 45000
*18000—GNSS MEA |  |  |
*DME/DME/IRU MEA |  |  |
HOTEE, PA FIX | BTRIX, PA FIX | *18000 | 45000
*18000—GNSS MEA |  |  |
*DME/DME/IRU MEA |  |  |
BTRIX, PA FIX | SPOTZ, PA FIX | *18000 | 45000
*18000—GNSS MEA |  |  |
*DME/DME/IRU MEA |  |  |
SPOTZ, PA FIX | ZIMMZ, PA FIX | *18000 | 45000
*18000—GNSS MEA |  |  |
*DME/DME/IRU MEA |  |  |
§ 95.4062 RNAV Route Q62 Is Added to Read
NOLNN, OH FIX | WEEVR, OH FIX | *18000 | 45000
*18000—GNSS MEA |  |  |
*DME/DME/IRU MEA |  |  |
WEEVR, OH FIX | PSKUR, OH FIX | *18000 | 45000
*18000—GNSS MEA |  |  |
*DME/DME/IRU MEA |  |  |
PSKUR, OH FIX | FAALS, OH FIX | *18000 | 45000
*18000—GNSS MEA |  |  |
*DME/DME/IRU MEA |  |  |
FAALS, OH FIX | ALEEE, OH FIX | *18000 | 45000
*18000—GNSS MEA |  |  |
*DME/DME/IRU MEA |  |  |
ALEEE, OH FIX | QUARM, PA FIX | *18000 | 45000
*18000—GNSS MEA |  |  |
*DME/DME/IRU MEA |  |  |
QUARM, PA FIX | BURNI, PA FIX | *18000 | 45000
*18000—GNSS MEA |  |  |
*DME/DME/IRU MEA |  |  |
BURNI, PA FIX | MCMAN, PA FIX | *18000 | 45000
*18000—GNSS MEA |  |  |
*DME/DME/IRU MEA |  |  |
MCMAN, PA FIX | VALLO, PA FIX | *18000 | 45000
*18000—GNSS MEA |  |  |
*DME/DME/IRU MEA |  |  |
VALLO, PA FIX | RAVINE, PA VORTAC | *18000 | 45000
*18000—GNSS MEA |  |  |
*DME/DME/IRU MEA |  |  |
RAVINE, PA VORTAC | SUZIE, PA FIX | *18000 | 45000
*18000—GNSS MEA |  |  |
*DME/DME/IRU MEA |  |  |
SUZIE, PA FIX | SARAA, PA FIX | *18000 | 45000
*18000—GNSS MEA |  |  |
*DME/DME/IRU MEA |  |  |
§ 95.4406 RNAV Route Q406 Is Added to Read
BROADWAY, NJ VOR/DME | DBABE, NY FIX | *18000 | 45000
*18000—GNSS MEA |  |  |
*DME/DME/IRU MEA |  |  |
DBABE, NY FIX | BASYE, NY FIX | *18000 | 45000
*18000—GNSS MEA |  |  |
*DME/DME/IRU MEA |  |  |
BASYE, NY FIX | TRIBS, CT FIX | *18000 | 45000
*18000—GNSS MEA |  |  |
*DME/DME/IRU MEA |  |  |
TRIBS, CT FIX | BIGGO, CT FIX | *18000 | 45000
*18000—GNSS MEA |  |  |
*DME/DME/IRU MEA |  |  |
BIGGO, CT FIX | BARNES, MA VORTAC | *18000 | 45000
*18000—GNSS MEA |  |  |
*DME/DME/IRU MEA |  |  |
§ 95.4448 RNAV Route Q448 Is Added to Read
POTTSTOWN, PA VORTAC | LANNA, NJ FIX | *18000 | 45000
*18000—GNSS MEA |  |  |
*DME/DME/IRU MEA |  |  |
LANNA, NJ FIX | DBABE, NY FIX | *18000 | 45000
*18000—GNSS MEA |  |  |
*DME/DME/IRU MEA |  |  |
DBABE, NY FIX | BASYE, NY FIX | *18000 | 45000
*18000—GNSS MEA |  |  |
*DME/DME/IRU MEA |  |  |
BASYE, NY FIX | TRIBS, CT FIX | *18000 | 45000
*18000—GNSS MEA |  |  |
*DME/DME/IRU MEA |  |  |
TRIBS, CT FIX | BIGGO, CT FIX | *18000 | 45000
*18000—GNSS MEA |  |  |
*DME/DME/IRU MEA |  |  |
BIGGO, CT FIX | BARNES, MA VORTAC | *18000 | 45000
*18000—GNSS MEA |  |  |
*DME/DME/IRU MEA |  |  |
§ 95.4480 RNAV Route Q480 Is Added to Read
ZANDR, OH FIX | BELLAIRE, OH VOR/DME | *18000 | 45000
*18000—GNSS MEA |  |  |
*DME/DME/IRU MEA |  |  |
BELLAIRE, OH VOR/DME | LEJOY, PA FIX | *18000 | 45000
*18000—GNSS MEA |  |  |
*DME/DME/IRU MEA |  |  |
LEJOY, PA FIX | VINSE, PA FIX | *18000 | 45000
*18000—GNSS MEA |  |  |
*DME/DME/IRU MEA |  |  |
VINSE, PA FIX | BEETS, PA FIX | *18000 | 45000
*18000—GNSS MEA |  |  |
*DME/DME/IRU MEA |  |  |
BEETS, PA FIX | HOTEE, PA FIX | *18000 | 45000
*18000—GNSS MEA |  |  |
*DME/DME/IRU MEA |  |  |
HOTEE, PA FIX | BTRIX, PA FIX | *18000 | 45000
*18000—GNSS MEA |  |  |
*DME/DME/IRU MEA |  |  |
BTRIX, PA FIX | SPOTZ, PA FIX | *18000 | 45000
*18000—GNSS MEA |  |  |
*DME/DME/IRU MEA |  |  |
SPOTZ, PA FIX | CANDR, NJ FIX | *18000 | 45000
*18000—GNSS MEA |  |  |
*DME/DME/IRU MEA |  |  |
CANDR, NJ FIX | JEFFF, NJ FIX | *18000 | 45000
*18000—GNSS MEA |  |  |
*DME/DME/IRU MEA |  |  |
JEFFF, NJ FIX | KINGSTON, NY VOR/DME | *18000 | 45000
*18000—GNSS MEA |  |  |
*DME/DME/IRU MEA |  |  |
KINGSTON, NY VOR/DME | LESWL, CT FIX | *18000 | 45000
*18000—GNSS MEA |  |  |
*DME/DME/IRU MEA |  |  |
LESWL, CT FIX | BARNES, MA VORTAC | *18000 | 45000
*18000—GNSS MEA |  |  |
*DME/DME/IRU MEA |  |  |
BARNES, MA VORTAC | KENNEBUNK, ME VORTAC | *18000 | 45000
*18000—GNSS MEA |  |  |
*DME/DME/IRU MEA |  |  |

From | To | MEA
§ 95.6001 Victor Routes—U.S.
§ 95.6003 VOR Federal Airway V3 Is Amended to Read in Part
#KEY WEST, FL VORTAC | *BIPIN, FL FIX | **15000
*14500—MCA BIPIN, FL FIX, W BND |  |
**GNSS MEA |  |
#KEY WEST R-082 UNUSABLE |  |
BIPIN, FL FIX | DROWN, FL FIX | *3000
*GNSS MEA |  |
§ 95.6005 VOR Federal Airway V5 Is Amended to Read in Part
*AWSON, GA FIX | NELLO, GA FIX | **7000
*5000—MRA |  |
**5500—MOCA |  |
§ 95.6006 VOR Federal Airway V6 Is Amended to Read in Part
PITTS, CA FIX | REJOY, CA FIX | *4000
*2400—MOCA |  |
GIPPER, MI VORTAC | BRYTO, IN FIX | *3500
*2400—MOCA |  |
BRYTO, IN FIX | *PIONS, OH FIX | **4000
*4000—MRA |  |
**2500—MOCA |  |
*PIONS, OH FIX | WATERVILLE, OH VOR/DME | **3300
*4000—MRA |  |
**2300—MOCA |  |
§ 95.6016 VOR Federal Airway V16 Is Amended to Read in Part
KENNEDY, NY VOR/DME | CALVERTON, NY VOR/DME | 2000
§ 95.6020 VOR Federal Airway V20 Is Amended to Read in Part
RESERVE, LA VOR/DME | GULFPORT, MS VORTAC | 2000
§ 95.6047 VOR Federal Airway V47 Is Amended to Read in Part
POCKET CITY, IN VORTAC | HOLAN, IN FIX | 2600
HOLAN, IN FIX | SACKO, IN FIX | *3500
*2100—MOCA |  |
*3000—GNSS MEA |  |
SACKO, IN FIX | MAIZE, IN FIX | *6000
*2300—MOCA |  |
*3000—GNSS MEA |  |
MAIZE, IN FIX | NABB, IN VORTAC | *3500
*2400—MOCA |  |
*3000—GNSS MEA |  |
§ 95.6063 VOR Federal Airway V63 Is Amended to Read in Part
DAVENPORT, IA VORTAC | *MIHAL, IL FIX | 2700
*4000—MRA |  |
*MIHAL, IL FIX | ROCKFORD, IL VOR/DME | 2700
*4000—MRA |  |
§ 95.6097 VOR Federal Airway V97 Is Amended to Read in Part
PECAN, GA VORTAC | AMAPO, GA FIX | 2300
AMAPO, GA FIX | *PRATZ, GA FIX | **3000
*3000—MRA |  |
*4000—MCA PRATZ, GA FIX, N BND |  |
**2300—MOCA |  |
*PRATZ, GA FIX | OLISY, GA FIX | **4000
*3000—MRA |  |
**2700—MOCA |  |
**3000—GNSS MEA |  |
OLISY, GA FIX | ATLANTA, GA VORTAC | *3000
*2400—MOCA
§ 95.6114 VOR Federal Airway V114 Is Amended to Read in Part
RESERVE, LA VOR/DME | GULFPORT, MS VORTAC | 2000
§ 95.6155 VOR Federal Airway V155 Is Amended to Read in Part
FLAT ROCK, VA VORTAC | #BROOKE, VA VORTAC | *2000
*2000—GNSS MEA |  |
#BROOKE R-214 UNUSABLE |  |
§ 95.6157 VOR FEDERAL AIRWAY V157 Is Amended to Read in Part
#KEY WEST, FL VORTAC | DVALL, FL FIX | *3000
*1400—MOCA |  |
*GNSS MEA |  |
#KEY WEST R-037 UNUSABLE |  |
DVALL, FL FIX | *FAMIN, FL FIX | **5000
*5700—MRA |  |
**1300—MOCA |  |
**3000—GNSS MEA |  |
*FAMIN, FL FIX | DOLPHIN, FL VORTAC | **5000
*5700—MRA |  |
**1600—MOCA |  |
**3000—GNSS MEA |  |
§ 95.6163 VOR Federal Airway V163 Is Amended to Read in Part
BROWNSVILLE, TX VORTAC | *MANNY, TX FIX | 1700
*5000—MRA |  |
§ 95.6172 VOR Federal Airway V172 Is Amended to Read in Part
LOTTE, IA FIX | *MIHAL, IL FIX | 2700
*4000—MRA |  |
*MIHAL, IL FIX | POLO, IL VOR/DME | 2700
*4000—MRA |  |
§ 95.6229 VOR Federal Airway V229 Is Amended to Read in Part
KENNEDY, NY VOR/DME | KEEPM, NY FIX | 2000
KEEPM, NY FIX | TRANZ, NY FIX | 2000
TRANZ, NY FIX | PUGGS, NY FIX | *2500
*2000—GNSS MEA |  |
PUGGS, NY FIX | BRIDGEPORT, CT VOR/DME | *2500
*2000—GNSS MEA |  |
§ 95.6269 VOR Federal Airway V269 Is Amended to Read in Part
POCATELLO, ID VOR/DME | *JATTS, ID FIX | 8000
*9700—MCA JATTS, ID FIX, NW BND |  |
JATTS, ID FIX | YOYYU, ID FIX | *16000
*13300—MOCA |  |
*13300—GNSS MEA |  |
YOYYU, ID FIX | SALMON, ID VOR/DME | *14000
*13500—MOCA |  |
*13500—GNSS MEA |  |
§ 95.6311 VOR Federal Airway V311 Is Amended to Read in Part
NELLO, GA FIX | *AWSON, GA FIX | **7000
*5000—MRA |  |
**5500—MOCA |  |
§ 95.6417 VOR Federal Airway V417 Is Amended to Read in Part
NELLO, GA FIX | *AWSON, GA FIX | **7000
*5000—MRA |  |
**5500—MOCA |  |
§ 95.6449 VOR Federal Airway V449 Is Amended to Read in Part
MILTON, PA VORTAC | MEGSS, PA FIX | *3500
*GNSS MEA |  |
MEGSS, PA FIX | LAKE HENRY, PA VORTAC | *4000
*GNSS MEA |  |
§ 95.6472 VOR Federal Airway V472 Is Amended to Read in Part
ELIZABETH CITY, NC VOR/DME | BERTI, NC FIX | *4000
*1600—MOCA |  |
BERTI, NC FIX | *ZAGGY, NC FIX | **7000
*7000—MRA |  |
**2100—MOCA |  |
**2100—GNSS MEA |  |
*ZAGGY, NC FIX | KINSTON, NC VORTAC | **2000
*7000—MRA |  |
**1600—MOCA |  |
§ 95.6500 VOR Federal Airway V500 Is Amended to Read in Part
DERSO, ID FIX | *SOLDE, ID FIX | **17000
*16600—MCA SOLDE, ID FIX, W BND |  |
**9200—MOCA |  |
SOLDE, ID FIX | *REAPS, ID FIX | **14000
*12900—MCA | REAPS, ID FIX, W BND | **14000
**8000—MOCA |  |
§ 95.6512 VOR Federal Airway V512 Is Amended to Read in Part
POCKET CITY, IN VORTAC | HOLAN, IN FIX | 2600
HOLAN, IN FIX | SACKO, IN FIX | *3500
*2100—MOCA |  |
*3000—GNSS MEA |  |
§ 95.6521 VOR Federal Airway V521 Is Amended to Read in Part
HEVVN, FL FIX | *TERES, FL FIX | **2000
*7000—MRA |  |
**1300—MOCA |  |
**GNSS MEA |  |
**GNSS REQUIRED |  |
§ 95.6526 VOR Federal Airway V526 Is Amended to Read in Part
MUSKY, MI FIX | MAPER, MI FIX | *3500
*1700—MOCA |  |
*2600—GNSS MEA |  |
MAPER, MI FIX | GIPPER, MI VORTAC | 2600

From | To | MEA | MAA
§ 95.7001 Jet Routes
§ 95.7060 Jet Route J60 Is Amended to Read in Part
PHILIPSBURG, PA VORTAC | DANNR, PA FIX | 18000 | 38000
DANNR, PA FIX | SPARTA, NJ VORTAC | 18000 | 45000

Airway segment: From | Airway segment: To | Changeover points: Distance | Changeover points: From
§ 95.8003 VOR Federal Airway Changeover Points
V47 Is Amended to Add Changeover Point
POCKET CITY, IN VORTAC | NABB, IN VORTAC | 53 | POCKET CITY
V163 Is Amended to Delete Changeover Point
BROWNS­VILLE, TX VORTAC | CORPUS CHRISTI, TX VORTAC | 71 | BROWNSVILLE
V203 Is Amended to Delete Changeover Point
SARANAC LAKE, NY VOR/DME | MASSENA, NY VORTAC | 11 | SARANAC LAKE

[FR Doc. 2011-24718 Filed 9-27-11; 8:45 am]

BILLING CODE 4910-13-P